DEPARTMENT OF AGRICULTURE

Forest Service

Notice of a Meeting of the Northeast Oregon Forests Resource Advisory Committee (RAC)

AGENCY: Forest Service, USDA.

ACTION: Notice of meeting.

SUMMARY: Pursuant to the authorities in the Federal Advisory Committees Act (Pub. L. 92-463), the Northeast Oregon Forest Resource Advisory Committee (RAC) will meet on February 22-23, 2010 in La Grande, Oregon. The purpose of the meeting is to meet as a Committee to discuss selection of Title II projects under Public Law 110-343, H.R. 1424, the Reauthorization of the Secure Rural Schools and community Self-Determination Act of 2000 (16 U.S.C 500 note; Pub. L. 106-393), also called “Payments to States” Act.

DATES: The meeting will be held on February 22 from 9 a.m to 5 p.m., and February 23, 2010 from 8 a.m. until 3 p.m.

ADDRESSES: The meeting will be held in the Blue Mountain Conference Center, 404 12th Street, La Grande, Oregon.

FOR FURTHER INFORMATION CONTACT: Kurt Wiedenmann, Designated Federal Official, USDA, Wallowa-Whitman National Forest, La Grande Ranger District, 3502 Highway 30, La Grande, Oregon 97850; Telephone: (541) 962-8582.

SUPPLEMENTARY INFORMATION: This will be the first meeting of the Committee since reauthorization of Public Law 106-393. The meeting will focus on introducing new Committee members, becoming familiar with duties and responsibilities, selecting a chairperson, reviewing and recommending 2009 and 2010 project proposals that meet the intent of the Act. The meeting is open to the public. A public input opportunity will be provided, and individuals will have the opportunity to address the committee at that time.

Dated: January 27, 2010.
Jen Fitzpatrick,
Acting Forest Supervisor.

[FR Doc. 2010-2277 Filed 2-2-10; 8:45 am]

BILLING CODE 3410-11-P